DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground * Elevation in feet (NGVD) +Elevation in feet (NAVD) Modified
City of New York, New York
Docket No.: FEMA-D-7678
New York | New York (City) | Amboy Road Wetland (Staten Island) | Entire shoreline within the community | * 50
|  | Arbutus Creek (Staten Island) | Approximately 530 feet upstream of Hylan Boulevard | * 16
|  |  | Approximately 980 feet upstream of Amboy Road | * 57
|  | Blue Heron Main Branch (Staten Island) | Approximately 100 feet upstream of Hylan Boulevard | * 17
|  |  | Approximately 1,700 feet upstream of Tallman Street | * 70
|  | Blue Heron Tributary (Staten Island) | At the confluence with Blue Heron Main Branch | * 36
|  |  | Approximately 35 feet upstream of Holbridge Avenue | * 70
|  | Bronx River (Bronx) | Approximately 600 feet upstream of Tremont Street | * 15
|  |  | Approximately 1,650 feet upstream of East 24th Street | * 74
|  | Butler Manor (Staten Island) | Approximately 75 feet upstream of the confluence with Raritan Bay | * 10
|  |  | Approximately 0.6 mile upstream of the confluence with Raritan Bay | * 33
|  | Cleveland Avenue Wetland (Staten Island) | Entire shoreline within the community | * 58
|  | Colon Tributary (Staten Island) | At the confluence with Sweet Brook | * 15
|  |  | Approximately 145 feet upstream of Pemberton Avenue | * 41
|  | D Street Brook (Staten Island) | At D Street | * 97
|  |  | Approximately 1,530 feet upstream of D Street | * 155
|  | Denise Tributary (Staten Island) | Approximately 260 feet upstream of the confluence of Arbutus Creek | * 18
|  |  | Approximately 1,205 feet upstream of Jansen Street | * 49
|  | Eibs Pond (Staten Island) | Entire shoreline within the community | * 87
|  | Eltingville Tributary (Staten Island) | At the confluence with Sweet Brook | * 38
|  |  | Approximately 406 feet upstream of Katan Avenue | * 45
|  | Foresthill Road Brook (Staten Island) | Approximately 1,450 feet downstream of Foresthill Road | * 5
|  |  | Approximately 3,070 feet upstream of Alaska Place | * 74
|  | Hillside Avenue Wetland (Staten Island) | Entire shoreline within the community | * 56
|  | Jacks Pond (Staten Island) | Entire shoreline within the community | * 52
|  | Jansen Tributary (Staten Island) | Approximately 330 feet upstream of confluence with Arbutus Creek | * 25
|  |  | Approximately 1,340 feet upstream of confluence with Arbutus Creek | * 41
|  | Lemon Creek (Staten Island) | Approximately 40 feet upstream of Staten Island Rapid Transit Bridge | * 17
|  |  | Approximately 350 feet upstream of Rossville Avenue | * 101
|  | Mill Creek (Staten Island) | Approximately 80 feet downstream of Richmond Valley Road | * 11
|  |  | Approximately 1,320 feet upstream of West Veterans Road | * 77
|  | Mill Creek Tributary 1 (Staten Island) | At the confluence with Mill Creek | * 41
|  |  | Approximately 230 feet from the downstream side of the West Shore Expressway | * 60
|  | Mill Creek Tributary 2 (Staten Island) | At the confluence with Mill Creek | * 10
|  |  | At the confluence of Mill Creek Tributary 3 | * 13
|  | Mill Creek Tributary 3 (Staten Island) | At the confluence with Mill Creek Tributary 2 | * 13
|  |  | Approximately 860 feet upstream of confluence with Mill Creek Tributary 2 | * 22
|  | Richmond Creek (Staten Island) | Approximately 510 feet downstream of Richmond Hill Road | * 6
|  |  | Approximately 0.86 mile upstream of Rockland Avenue | * 254
|  | Sandy Brook (Staten Island) | Approximately 190 feet upstream of Richmond Parkway (Drumgoole Avenue) | * 39
|  |  | Approximately 1,100 feet upstream of Bloomingdale Road | * 84
|  | Stump Pond (Staten Island) | Entire shoreline within the community | * 271
|  | Sweet Brook (Staten Island) | Approximately 3,200 feet downstream of Genesee Avenue | * 12
|  |  | Approximately 1,050 feet upstream of Richmond Avenue/Drumgoogle Avenue | * 99
|  | Wolfes Pond (Staten Island) | Approximately 1,175 feet upstream of Seguine Avenue | * 10
|  |  | Approximately 175 feet upstream of Hylan Boulevard | * 21
|  | Wood Duck Pond (Staten Island) | Entire shoreline within the community | * 54
# Depth in feet above ground.
* National Geodetic Vertical Datum.
+North American Vertical Datum.
ADDRESSES
Maps are available for inspection at the New York City Planning Department, Waterfront and Open Space Division, 22 Reade Street, Room 6E, New York, New York.

Flooding source(s) | Location of referenced elevation | * Elevation in feet (NGVD) + Elevation in feet (NAVD) # Depth in feet above ground Modified | Communities affected
Burke County, North Carolina and Incorporated Areas
Docket Nos.: FEMA-D-7676 and FEMA-D-7680
Back Creek | At the confluence with Irish Creek | +1,116 | Burke County (Unincorporated Areas).
| Approximately 0.5 mile upstream of the confluence with Irish Creek | +1,135
Bailey Fork | Approximately 0.8 mile upstream of I-40 | +1,036 | Burke County (Unincorporated Areas), City of Morganton.
| Approximately 100 feet downstream of U.S. 64 | +1,047
Bristol Creek | At the confluence with Lower Creek | +1,019 | Burke County (Unincorporated Areas).
| Approximately 200 feet downstream of Burke/Caldwell County boundary | +1,144
Tributary 1 | At the confluence with Bristol Creek | +1,019 | Burke County (Unincorporated Areas).
| Approximately 0.4 mile upstream of the confluence with Bristol Creek | +1,019
Camp Creek | At Burke/Catawba County boundary | +1,020 | Burke County (Unincorporated Areas).
| Approximately 800 feet upstream of Burke/Catawba County boundary | +1,023
Canoe Creek | At the confluence with Catawba River | +1,024 | Burke County (Unincorporated Areas), City of Morganton.
| Approximately 0.4 mile upstream of SR 1254 | +1,289
Carroll Creek | At the confluence with Parks Creek | +1,047 | Burke County (Unincorporated Areas).
| Approximately 1,700 feet upstream of the confluence with Parks Creek | +1,055
Catawba River | At the Burke/Catawba County boundary | +936 | Burke County (Unincorporated Areas), City of Hickory, City of Morganton, Town of Glen Alpine, Town of Rhodhiss, Town of Rutherford College, Town of Valdese.
| Approximately 2.7 miles upstream of Burke/McDowell County boundary | +1,206
Tributary 1 | At the confluence with Catawba River | +1,069 | Burke County (Unincorporated Areas).
| Approximately 0.5 mile upstream of SR 1223 | +1,094
Tributary 2 | At the confluence with Catawba River | +1,206 | Burke County (Unincorporated Areas).
| Approximately 2.8 miles upstream of the confluence with Catawba River | +1,236
Clear Creek | Approximately 100 feet upstream of the confluence with Silver Creek | +1,046 | Burke County (Unincorporated Areas).
| Approximately 400 feet upstream of U.S. 64 | +1,111
Cub Creek | At the confluence with Henry Fork | +996 | Burke County (Unincorporated Areas).
| Approximately 1.0 mile upstream of SR 1001 | +1,230
Double Branch | At the confluence with McGalliard Creek | +1,097 | Burke County (Unincorporated Areas), Town of Valdese.
| Approximately 1,100 feet upstream of SR 1737 | +1,231
Tributary 1 | At the confluence with Double Branch | +1,110 | Burke County (Unincorporated Areas).
| Approximately 2,000 feet upstream of SR 1722 | +1,197
Douglas Creek | Approximately 100 feet downstream of Burke/Catawba County boundary | +1,046 | Burke County (Unincorporated Areas).
| Approximately 1,400 feet upstream of Burke/Catawba County boundary | +1,064
Drowning Creek | At the confluence with Catawba River | +938 | Burke County (Unincorporated Areas).
| Approximately 1.7 miles upstream of SR 1758 | +1,527
Tributary 1 | Approximately 800 feet upstream of Wilson Road | +1,025 | Town of Hildebran.
| Approximately 1,750 feet upstream of Cline Park Drive | +1,103
Tributary 2 | Approximately 0.4 mile downstream of SR 1680 | +1,045 | Burke County (Unincorporated Areas).
| Approximately 200 feet downstream of Railroad | +1,079
Tributary 2B | At the confluence with Drowning Creek Tributary 2 | +1,046 | Burke County (Unincorporated Areas).
| Approximately 150 feet downstream of Railroad | +1,077
Dye Branch | At the confluence with McGalliard Creek | +1,078 | Burke County (Unincorporated Areas), Town of Valdese.
| Approximately 655 feet upstream of Praley Street | +1,193
Hall Creek | At the confluence with Silver Creek | +1,119 | Burke County (Unincorporated Areas).
| Approximately 2,000 feet upstream of U.S. 64 | +1,203
Henry Fork | Approximately 200 feet downstream of the Burke/Catawba County boundary | +930 | Burke County (Unincorporated Areas).
| Approximately 0.9 mile upstream of SR 1918 | +1,422
Howard Creek | At the confluence with Catawba River | +1,005 | Burke County (Unincorporated Areas), Town of Drexel.
| Approximately 750 feet downstream of SR 1536 | +1,009
Tributary 1 | Approximately 200 feet upstream of the confluence with Howard Creek | +1,085 | Burke County (Unincorporated Areas), Town of Drexel.
| Approximately 700 feet upstream of Railroad | +1,192
Hoyle Creek | At the confluence with Catawba River | +1,005 | Burke County (Unincorporated Areas), Town of Rutherford College, Town of Valdese.
| Approximately 1,600 feet upstream of the confluence of Micol Creek | +1,081
Tributary 1 | At the confluence with Hoyle Creek | +1,005 | Burke County (Unincorporated Areas), Town of Rutherford College, Town of Valdese.
| Approximately 0.9 mile upstream of the confluence with Hoyle Creek | +1,164
Tributary 2 | At the confluence with Hoyle Creek | +1,005 | Burke County (Unincorporated Areas), Town of Rutherford College, Town of Valdese.
| Approximately 0.7 mile upstream of the confluence with Hoyle Creek | +1,106
Hunting Creek | At the confluence with Catawba River | +1,014 | Burke County (Unincorporated Areas), City of Morganton.
| Approximately 1,050 feet upstream of SR 2002 | +1,149
Tributary 2 | Approximately 650 feet upstream of the confluence with Hunting Creek | +1,080 | Burke County (Unincorporated Areas), City of Morganton.
| Approximately 0.7 mile upstream of Walker Road | +1,151
Tributary 3 | At the confluence with Hunting Creek | +1,105 | Burke County (Unincorporated Areas), City of Morganton.
| Approximately 0.4 mile upstream of the confluence with Hunting Creek | +1,115
Irish Creek | At the confluence with Warrior Fork and Upper Creek | +1,030 | Burke County (Unincorporated Areas).
| Approximately 900 feet upstream of the confluence of Reedys Fork Creek | +1,146
Tributary 1 | At the confluence with Irish Creek | +1,108 | Burke County (Unincorporated Areas).
| Approximately 50 feet downstream of SR 1240 | +1,127
Island Creek | Approximately 1.0 mile upstream of the confluence with Catawba River | +1,005 | Burke County (Unincorporated Areas), Town of Connelly Springs, Town of Rutherford College.
| Approximately 0.9 mile upstream of I-40 | +1,331
Jacob Fork | At Burke/Catawba County boundary | +1,047 | Burke County (Unincorporated Areas).
| Approximately 400 feet upstream of SR 1904 | +1,194
Johns River | At the confluence with Catawba River | +1,013 | Burke County (Unincorporated Areas), City of Morganton.
| At Burke/Caldwell County boundary | +1,053
Laurel Creek | At the confluence with Henry Fork | +1,015 | Burke County (Unincorporated Areas).
| Approximately 1.2 miles upstream of Shouppe Way | +1,302
Linville River | At the confluence with Catawba River | +1,206 | Burke County (Unincorporated Areas).
| At Avery/Burke County boundary | +3,215
Little Silver Creek | Approximately 0.6 mile upstream of Causby Road (SR 1147) | +1,115 | Burke County (Unincorporated Areas), City of Morganton, Town of Glen Alpine.
| Approximately 1.1 miles upstream of Ceramic Tile Drive | +1,226
Lower Creek | At the confluence with Catawba River | +1,011 | Burke County (Unincorporated Areas).
| At Burke/Caldwell County boundary | +1,028
McGalliard Creek | At the confluence with Catawba River | +1,005 | Burke County (Unincorporated Areas), Town of Valdese.
| Approximately 450 feet upstream of SR 1722 | +1,212
Tributary 1 | Approximately 300 feet upstream of the confluence with McGalliard Creek | +1,062 | Burke County (Unincorporated Areas), Town of Valdese.
| Approximately 1,900 feet upstream of Louise Avenue Northeast | +1,232
Tributary 2 | Approximately 100 feet upstream of the confluence with McGalliard Creek | +1,089 | Burke County (Unincorporated Areas), Town of Drexel.
| Approximately 650 feet downstream of I-40 | +1,250
Tributary 2A | At the confluence with McGalliard Creek Tributary 2 | +1,110 | Burke County (Unincorporated Areas), Town of Drexel.
| Approximately 800 feet upstream of Drexel. Road | +1,164
Tributary 2B | At the confluence with McGalliard Creek Tributary 2 | +1,149 | Burke County (Unincorporated Areas), Town of Drexel.
| Approximately 200 feet downstream of SR 1721 | +1,205
Micol Creek | At the confluence with Hoyle Creek | +1,068 | Burke County (Unincorporated Areas), Town of Valdese.
| Approximately 300 feet downstream of I-40 | +1,252
Tributary 1 | At the confluence with Micol Creek | +1,117 | Burke County (Unincorporated Areas), Town of Rutherford College, Town of Valdese.
| Approximately 0.5 mile upstream of Montanya View Drive | +1,526
Tributary 1A | At the confluence with Micol Creek Tributary 1A | +1,165 | Burke County (Unincorporated Areas), Town of Rutherford College, Town of Valdese.
| Approximately 100 feet downstream of SR 1001 | +1,229
Tributary 1A1 | At the confluence with Micol Creek Tributary 1A | +1,169 | Burke County (Unincorporated Areas), Town of Rutherford College.
| Approximately 1,800 feet upstream of Rutherford College Road | +1,229
Muddy Creek | At the confluence with Old Catawba River | +1,083 | Burke County (Unincorporated Areas).
| Approximately 0.4 mile upstream of Burke/McDowell County boundary | +1,089
Nolden Creek | Approximately 1.0 mile upstream of the confluence with Catawba River | +1,004 | Burke County (Unincorporated Areas), Town of Connelly Springs.
| Approximately 0.9 mile upstream of SR 1614 | +1,201
Old Catawba River | At the confluence with Catawba River | +1,066 | Burke County (Unincorporated Areas).
| At Catawba Dam | +1,098
Paddy Creek | At the confluence with Catawba River | +1,206 | Burke County (Unincorporated Areas).
| Approximately 2.9 miles upstream of SR 1237 | +1,815
Parks Creek | At the confluence with Johns River | +1,044 | Burke County (Unincorporated Areas).
| Approximately 100 feet downstream of SR 1405 | +1,050
Pearcy Creek | At the confluence with Parks Creek | +1,046 | Burke County (Unincorporated Areas).
| Approximately 1.1 miles upstream of SR 1405 | +1,154
Tributary 1 | At the confluence with Pearcy Creek | +1,077 | Burke County (Unincorporated Areas).
| Approximately 50 feet downstream of SR 1405 | +1,116
Reedys Fork Creek | At the confluence with Irish Creek | +1,141 | Burke County (Unincorporated Areas).
| Approximately 0.5 mile upstream of the confluence with Irish Creek | +1,159
Roses Creek | At the confluence with Irish Creek | +1,057 | Burke County (Unincorporated Areas).
| Approximately 0.6 mile upstream of the confluence of Roses Creek Tributary 1 | +1,345
Tributary 1 | At the confluence with Roses Creek | +1,297 | Burke County (Unincorporated Areas).
| Approximately 0.6 mile upstream of the confluence with Roses Creek | +1,382
Russell Creek | At the confluence with Irish Creek | +1,115 | Burke County (Unincorporated Areas).
| Approximately 1,550 feet upstream of SR 1241 | +1,209
Sandy Run | Approximately 1.7 miles upstream of the confluence with Hunting Creek | +1,113 | Burke County (Unincorporated Areas).
| Approximately 2.4 miles upstream of the confluence with Hunting Creek | +1,156
Secrets Creek | Approximately 150 feet upstream of the confluence with Howard Creek | +1,011 | Burke County (Unincorporated Areas), Town of Drexel.
| Approximately 0.7 mile upstream of South Main Street | +1,213
Silver Creek | At the confluence with Catawba River | +1,023 | Burke County (Unincorporated Areas), City of Morganton.
| Approximately 1,900 feet upstream of U.S. 64 | +1,226
Tributary 1 | At the confluence with Silver Creek | +1,023 | City of Morganton.
| Approximately 1,050 feet upstream of Golf Course Road | +1,025
Simpson Creek | At the confluence with Roses Creek | +1,089 | Burke County (Unincorporated Areas).
| Approximately 1.5 miles upstream of the confluence with Roses Creek | +1,185
Smokey Creek | At the confluence with Catawba River | +1,006 | Burke County (Unincorporated Areas).
| At Burke/Caldwell County boundary | +1,100
Tributary 1 | At the confluence with Smokey Creek | +1,043 | Burke County (Unincorporated Areas).
| Approximately 0.4 mile upstream of the confluence with Smokey Creek | +1,079
South Muddy Creek | Approximately 1,200 feet downstream of Burke/McDowell County boundary | +1,092 | Burke County (Unincorporated Areas).
| At Burke/McDowell County boundary | +1,098
Tributary 1 | At Burke/McDowell County boundary | +1,121 | Burke County (Unincorporated Areas).
| Approximately 1,000 feet upstream of Burke/McDowell County boundary | +1,144
Tims Creek | At the confluence with Henry Fork | +977 | Burke County (Unincorporated Areas).
| Approximately 1.6 miles upstream of SR 1786 | +1,234
Upper Creek | At the confluence with Warrior Fork and Irish Creek | +1,030 | Burke County (Unincorporated Areas).
| Approximately 0.5 mile upstream of SR 1405 | +1,093
Warrior Fork | At the confluence with Catawba River | +1,018 | Burke County (Unincorporated Areas), City of Morganton.
| At the confluence of Upper Creek and Irish Creek | +1,030
Wilson Creek | At the confluence with Warrior Fork | +1,018 | Burke County (Unincorporated Areas), City of Morganton.
| Approximately 0.7 mile upstream of the confluence with Warrior Fork | +1,018
* National Geodetic Vertical Datum.
# Depth in feet above ground.
+ North American Vertical Datum.
ADDRESSES
City of Hickory
Maps are available for inspection at the Hickory City Hall, 76 North Center Street, Hickory, North Carolina.
City of Morganton
Maps are available for inspection at the Morganton. Town Hall, Community Development Department, 305 East Union Street, Morganton, North Carolina.
Town of Connelly Springs
Maps are available for inspection at the Connelly Springs Town Hall, 1030 U.S. Highway 70, Connelly Springs, North Carolina.
Town of Drexel
Maps are available for inspection at the Drexel Town Hall, 202 Church Street, Drexel, North Carolina.
Town of Glen Alpine
Maps are available for inspection at the Glen Alpine Town Hall, 103 Pitts Street, Glen Alpine, North Carolina.
Town of Hildebran
Maps are available for inspection at the Hildebran Town Hall, 202 South Center Street, Hildebran, North Carolina.
Town of Rhodhiss
Maps are available for inspection at the Rhodhiss Town Hall, 200 Burke Street, Rhodhiss, North Carolina.
Town of Rutherford College
Maps are available for inspection at the Rutherford College Town Hall, 950 Malcolm Boulevard, Rutherford College, North Carolina.
Town of Valdese
Maps are available for inspection at the Valdese Town Hall, 121 Faet Street, Valdese, North Carolina.
Unincorporated Areas of Burke County
Maps are available for inspection at the Burke County Planning and Development Department, 110 North Green Street, Morganton, North Carolina.
Catawba County, North Carolina and Incorporated Areas
Docket Nos.: FEMA-D-7668 and FEMA-D-7680
Bakers Creek Tributary | Approximately 400 feet upstream of the confluence with Bakers Creek | +891 | Catawba County (Unincorporated Areas).
| Approximately 1.4 miles upstream of Swinging Bridge Road | +980
Tributary 1 | Approximately 300 feet upstream of the confluence with Bakers Creek | +891 | Catawba County (Unincorporated Areas).
| Approximately 0.7 mile upstream of Stratford Drive | +1,040
Balls Creek | Approximately 600 feet downstream of Kale Road (State Route 1832) | +762 | Catawba County (Unincorporated Areas).
| Approximately 970 feet upstream of Little Mountain Road | +1,034
Barger Branch | At the confluence with Henry Fork | +861 | Catawba County (Unincorporated Areas), City of Hickory, Town of Brookford.
| Approximately 200 feet upstream of 8th Avenue Southeast | +1,064
Tributary 1 | At the confluence with Barger Branch | +987 | City of Hickory.
| Approximately 800 feet upstream of 8th Avenue Southeast | +1,083
Tributary 2 | At the confluence with Barger Branch Tributary 1 | +991 | City of Hickory.
| Approximately 1,040 feet upstream of the confluence with Barger Branch Tributary 1 | +1,033
Tributary 3 | At the confluence with Barger Branch | +1,005 | City of Hickory.
| Approximately 130 feet upstream of 8th Avenue Southeast | +1,082
Betts Branch | At the confluence with Clarks Creek | +812 | Catawba County (Unincorporated Areas).
| Approximately 1,900 feet upstream of the confluence with Clarks Creek | +812
Bills Branch | At the confluence with Clarks Creek | +813 | Catawba County (Unincorporated Areas), City of Newton.
| Approximately 0.5 mile upstream of U.S. 321 South | +844
Camp Creek | Approximately 0.5 mile upstream of the confluence with Jacob Fork | +915 | Catawba County (Unincorporated Areas).
| At the Burke/Catawba County boundary | +1,020
Catawba River | Approximately 0.4 mile above the confluence of Balls Creek | +762 | Catawba County (Unincorporated Areas), City of Hickory.
| At the Burke/Caldwell/Catawba County boundary | +936
Tributary 1 | At the confluence with the Catawba River | +936 | Catawba County (Unincorporated Areas), City of Hickory.
| Approximately 1,100 feet upstream of 31st Avenue Northwest | +1,026
Clarks Creek | Approximately 850 feet downstream of U.S. 321 | +790 | Catawba County (Unincorporated Areas), City of Hickory, City of Newton, Town of Maiden.
| Approximately 2.5 miles upstream of I-40 | +1,049
Cline Creek | At the confluence with Clarks Creek | +864 | Catawba County (Unincorporated Areas), City of Conover, City of Newton.
| Approximately 150 feet downstream of I-40 | +908
Cline Creek North | At the confluence with Lyle Creek | +869 | Catawba County (Unincorporated Areas).
| Approximately 2.0 miles upstream of the confluence with Cline Creek North Tributary 1 | +1,047
Tributary 1 | At the confluence with Cline Creek North | +896 | Catawba County (Unincorporated Areas).
| Approximately 0.5 mile upstream of Rifle Range Road | +1,105
Cline Creek Tributary 1 | At the confluence with Cline Creek | +886 | City of Conover.
| Approximately 450 feet upstream of I-40 | +903
Tributary 2 | At the confluence with Cline Creek | +898 | City of Conover, Catawba County (Unincorporated Areas).
| Approximately 1,300 feet upstream of I-40 | +911
Conover Creek | At the confluence with Lyle Creek | +868 | Catawba County (Unincorporated Areas), City of Conover.
| Approximately 30 feet upstream of 5th Street Place Northeast | +953
Cow Branch | At the confluence with Pott Creek | +861 | Catawba County (Unincorporated Areas).
| Approximately 0.8 mile upstream of Grace Church Road (State Route 2030) | +910
Cripple Creek | At the confluence with Frye Creek and Horseford Creek | +995 | City of Hickory.
| Approximately 1,070 feet upstream of 4th Street Drive Northwest | +1,067
Tributary 1 | At the confluence with Cripple Creek | +1,029 | City of Hickory.
| Approximately 1,900 feet upstream of the confluence with Cripple Creek | +1,055
Douglas Creek | At the confluence with Jacob Fork | +1,011 | Catawba County (Unincorporated Areas).
| Approximately 200 feet upstream of the Burke/Catawba County boundary | +1,048
Falling Creek | At the confluence with Lake Hickory | +936 | Catawba County (Unincorporated Areas), City of Hickory.
| Approximately 50 feet downstream of 14th Avenue Northeast | +1,093
Dellinger Creek | At the confluence with Elk Shoal Creek | +851 | Catawba County (Unincorporated Areas).
| Approximately 725 feet upstream of Rest Home Road | +960
East Tributary McLin Creek | At the confluence with McLin Creek | +943 | Catawba County (Unincorporated Areas), City of Conover.
| Approximately 1,000 feet upstream of Keisler Road Southeast | +982
Falling Creek Tributary 1 | Approximately 400 feet upstream of the confluence with Falling Creek | +1,015 | City of Hickory.
| Approximately 275 feet upstream of 12th Avenue Northeast | +1,088
Tributary 2 | At the confluence with Falling Creek | +1,052 | City of Hickory.
| Approximately 380 feet upstream of 12th Avenue Northeast | +1,095
Fitz Creek | At the confluence with Cripple Creek | +1,013 | City of Hickory.
| Approximately 30 feet upstream of the confluence with Cripple Creek | +1,013
Frye Creek | At the confluence with Horseford Creek and Cripple Creek | +995 | City of Hickory, Town of Long View.
| Approximately 50 feet downstream of 34th Street Northwest | +1,119
Geitner Branch | At the confluence with Henry Fork | +890 | City of Hickory, Catawba County (Unincorporated Areas).
| Approximately 1,900 feet upstream of 7th Avenue Southwest | +1,080
Tributary 1 | At the confluence with Geitner Branch | +1,019 | City of Hickory.
| Approximately 1,250 feet upstream of the confluence with Geitner Branch | +1,043
Elk Shoal Creek | Approximately 2,750 feet upstream of the confluence with Catawba River | +849 | Catawba County (Unincorporated Areas).
| Approximately 2,000 feet upstream of Rest Home Road | +943
Geitner Branch Tributary 2 | At the confluence with Geitner Branch | +983 | City of Hickory.
| Approximately 1,700 feet upstream of 7th Avenue Southwest | +1,074
Haas Creek | At the confluence with Pott Creek | +814 | Catawba County (Unincorporated Areas).
| Approximately 0.3 mile upstream of Bill and Beulah Lane | +910
Henry Fork | Approximately 1,250 feet upstream of the confluence with Jacob Fork and South Fork Catawba River | +821 | Catawba County (Unincorporated Areas), City of Hickory, City of Newton, Town of Brookford.
| At the Catawba/Burke County boundary | +930
Tributary 1 | At the confluence with Henry Fork | +846 | Catawba County (Unincorporated Areas), City of Hickory.
| Approximately 0.5 mile upstream of Catawba Valley Boulevard SE | +974
Tributary 2 | At the confluence with Henry Fork | +889 | Town of Brookford, City of Hickory.
| Approximately 1,830 feet upstream of Brookford Boulevard | +921
Tributary 3 | At the confluence with Henry Fork | +821 | Catawba County (Unincorporated Areas).
| Approximately 0.4 mile upstream of Robinson Road | +855
Herman Branch Creek | At the confluence with Lyle Creek | +913 | Catawba County (Unincorporated Areas), City of Conover.
| Approximately 175 feet upstream of the confluence with Lyle Creek | +914
Hildenbran Creek | At the confluence with Clarks Creek | +838 | City of Newton.
| Approximately 150 feet upstream of A.C. Little Drive | +953
Holdsclaw Creek | At the upstream side of Railroad | +798 | Catawba County (Unincorporated Areas).
| Approximately 1,500 feet upstream of the confluence of Holdsclaw Creek Tributary 1 | +798
Tributary 1 | At the confluence with Holdsclaw Creek | +798 | Catawba County (Unincorporated Areas).
| Approximately 1,450 feet upstream of the confluence with Holdsclaw Creek | +803
Holly Branch | Approximately 220 feet downstream of the confluence of Holly Branch Tributary 1 and Shady Branch | +821 | Catawba County (Unincorporated Areas), Town of Maiden.
| At the confluence of Holly Branch Tributary 1 and Shady Branch | +824
Tributary 1 | At the confluence with Holly Branch | +824 | Catawba County (Unincorporated Areas), Town of Maiden.
| Approximately 200 feet upstream of South Main Avenue | +870
Hop Creek | At the confluence with Jacob Fork | +835 | Catawba County (Unincorporated Areas).
| Approximately 2.7 miles upstream of the confluence with Jacob Fork | +917
Horseford Creek | At the confluence with the Catawba River | +936 | City of Hickory.
| At the confluence with Frye Creek and Cripple Creek | +995
Howards Creek | At the Catawba/Lincoln County boundary | +972 | Catawba County (Unincorporated Areas).
| Approximately 500 feet upstream of the Catawba/Lincoln County boundary | +977
Indian Creek | At the Catawba/Lincoln County boundary | +1,011 | Catawba County (Unincorporated Areas).
| Approximately 550 feet upstream of the Catawba/Lincoln County boundary | +1,014
Jacob Fork | Approximately 175 feet upstream of Providence Church Road (State Route 1116) | +915 | Catawba County (Unincorporated Areas).
| At the Catawba/Burke County boundary | +1,057
Tributary 1 | At the confluence with Jacob Fork | +1,022 | Catawba County (Unincorporated Areas).
| Approximately 1.3 miles upstream of Cooksville Road | +1,078
Lippard Creek | At the Lincoln/Catawba County boundary | +869 | Catawba County (Unincorporated Areas).
| Approximately 1,870 feet upstream of the Lincoln/Catawba County boundary | +876
Long Creek | At the confluence with McLin Creek | +860 | City of Conover, City of Claremont, Catawba County (Unincorporated Areas).
| Approximately 1,400 feet upstream of Railroad | +988
Long Shoal Creek | Approximately 0.5 mile downstream of Sulphur Springs Road (State Route 1529) | +935 | Catawba County (Unincorporated Areas), City of Hickory.
| Approximately 0.4 mile upstream of Pinecrest Drive Northeast | +1,037
Long View Creek | At the confluence with Henry Fork | +891 | Catawba County (Unincorporated Areas), City of Hickory, Town of Long View.
| Approximately 1,500 feet upstream of U.S. 70 Southwest | +1,081
Tributary 1 | At the confluence with Long View Creek | +990 | City of Hickory.
| Approximately 80 feet downstream of U.S. 70 | +1,061
Tributary 2 | Approximately 140 feet upstream of the confluence with Long View Creek | +1,038 | Town of Long View.
| Approximately 1,460 feet upstream of the confluence with Long View Creek | +1,053
Lyle Creek | At the confluence with the Catawba River | +773 | Catawba County (Unincorporated Areas), City of Hickory, Town of Catawba.
| Approximately 550 feet upstream of 18th Avenue Northeast | +1,116
Lyle Creek Tributary | At the downstream side of Shock Road (State Route 1711) | +831 | Catawba County (Unincorporated Areas).
| Approximately 2,000 feet upstream of Community Road | +892
Tributary 1 | Approximately 1,600 feet upstream of the confluence with Lyle Creek | +820 | Catawba County (Unincorporated Areas).
| Approximately 1.0 mile upstream of Crossing Creek Drive | +931
Maiden Creek | Approximately 1.3 miles upstream of Providence Mill Road | +864 | Catawba County (Unincorporated Areas).
| Approximately 80 feet downstream of North Olivers Cross Road | +905
McLin Creek | Approximately 500 feet upstream of East 20th Street | +940 | City of Conover.
| Approximately 0.6 mile upstream of the confluence of East Tributary McLin Creek | +970
Tributary 1 | Approximately 750 feet upstream of the confluence with McLin Creek | +857 | Catawba County (Unincorporated Areas), City of Claremont.
| Approximately 1,250 feet upstream of Frazier Drive | +936
Miller Branch | At the downstream side of 12th Avenue Southeast | +894 | Catawba County (Unincorporated Areas), City of Hickory.
| Approximately 1.9 miles upstream of the confluence with Clarks Creek | +982
Mountain Creek | At the upstream side of Slanting Bridge Road | +760 | Catawba County (Unincorporated Areas).
| Approximately 1.6 miles upstream of the confluence of Mountain Creek Tributary 3 | +776
Tributary 2 | At the confluence with Mountain Creek | +760 | Catawba County (Unincorporated Areas).
| Approximately 1.6 miles upstream of the confluence with Mountain Creek | +803
Tributary 2A | At the confluence with Mountain Creek Tributary 2 | +760 | Catawba County (Unincorporated Areas).
| Approximately 1.4 miles upstream of the confluence with Mountain Creek Tributary 2 | +763
Tributary 3 | At the confluence with Mountain Creek | +760 | Catawba County (Unincorporated Areas).
| Approximately 1.0 mile upstream of the confluence with Mountain Creek | +778
Tributary 3A | At the confluence with Mountain Creek Tributary 3 | +767 | Catawba County (Unincorporated Areas).
| Approximately 0.5 mile upstream of the confluence with Mountain Creek Tributary 3 | +804
Muddy Creek | Approximately 1,900 feet upstream of the confluence with Henry Fork | +835 | Catawba County (Unincorporated Areas).
| At the confluence of Muddy Creek Tributaries 2 and 3 | +838
Tributary 1 | At the confluence with Muddy Creek | +837 | Catawba County (Unincorporated Areas).
| Approximately 0.7 mile upstream of Robinwood Road | +873
Tributary 2 | At the confluence with Muddy Creek | +838 | Catawba County (Unincorporated Areas).
| Approximately 0.6 mile upstream of Robinwood Road | +863
Tributary 3 | At the confluence with Muddy Creek | +838 | Catawba County (Unincorporated Areas), City of Hickory.
| Approximately 1.3 miles upstream of the confluence with Muddy Creek | +872
Mull Creek | Approximately 1,000 feet upstream of the confluence with Lyle Creek | +819 | Catawba County (Unincorporated Areas), City of Conover, City of Claremont.
| Approximately 500 feet upstream of 9th Avenue Northeast | +1,002
Mundy Creek | At the confluence with Reed Creek | +760 | Catawba County (Unincorporated Areas).
| Approximately 500 feet upstream of Lineberger Road | +776
Tributary 1 | At the confluence with Mundy Creek | +760 | Catawba County (Unincorporated Areas).
| Approximately 1,400 feet upstream of Grassy Creek Road | +781
Naked Creek | Approximately 2,000 feet downstream of the St. Peters Church Road (State Route 1453) | +936 | Catawba County (Unincorporated Areas).
| Approximately 0.5 mile upstream of Timber Ridge Road | +1,015
Pinch Gut Creek | Approximately 120 feet upstream of St. James Church Road | +851 | Catawba County (Unincorporated Areas), Town of Maiden.
| Approximately 0.9 mile upstream of St. James Church Road | +883
Tributary 1 | At the confluence with Pinch Gut Creek | +852 | Catawba County (Unincorporated Areas).
| Approximately 0.5 mile upstream of the confluence with Pinch Gut Creek | +886
Pott Creek | Approximately 1,200 feet downstream of the confluence of Rhodes Mill Creek | +801 | Catawba County (Unincorporated Areas).
| Approximately 1.9 miles upstream of Plateau Road (State Route 2036) | +928
Propst Creek | Approximately 0.4 mile downstream of Sipe Road (State Route 1492) | +988 | Catawba County (Unincorporated Areas), City of Hickory.
| Approximately 75 feet downstream of Sipe Road (State Route 1492) | +1,005
Reed Creek | At the confluence with Mountain Creek | +760 | Catawba County (Unincorporated Areas).
| Approximately 1.1 miles upstream of Mount Pleasant Road | +790
Rhodes Mill Creek | At the confluence with Pott Creek | +802 | Catawba County (Unincorporated Areas).
| Approximately 1,100 feet upstream of Leatherman Road (State Route 2025) | +855
Tributary 1 | At the confluence with Rhodes Mill Creek | +815 | Catawba County (Unincorporated Areas).
| Approximately 0.4 mile upstream of the confluence with Rhodes Mill Creek | +825
Shady Branch | At the confluence with Holly Branch and Holly Branch Tributary 1 | +824 | Catawba County (Unincorporated Areas), Town of Maiden.
| Approximately 500 feet upstream of South 11th Avenue | +959
Tributary 1 | At the confluence with Sandy Branch | +872 | Catawba County (Unincorporated Areas), Town of Maiden.
| Approximately 1,800 feet upstream of South 8th Avenue | +927
Smyre Creek | At the confluence with Clarks Creek | +831 | Catawba County (Unincorporated Areas), City of Newton.
| Approximately 50 feet downstream of NC-16 | +875
Tributary 1 | At the confluence with Smyre Creek | +868 | Catawba County (Unincorporated Areas), City of Newton.
| Approximately 1,500 feet upstream of the confluence with Smyre Creek | +877
Snow Creek | At the confluence with the Catawba River | +935 | Catawba County (Unincorporated Areas), City of Hickory.
| Approximately 1,040 feet upstream of 15th Avenue Northeast | +1,097
Snow Hill Branch | At the downstream side of State Route 16/East D Street | +868 | City of Newton.
| Approximately 1,100 feet upstream of East 11th Street | +944
South Fork Catawba River | At the Catawba/Lincoln County boundary | +793 | Catawba County (Unincorporated Areas), City of Newton.
| Approximately 125 feet downstream of NC-10 | +816
Tributary 6 | At the confluence with South Fork Catawba River | +794 | Catawba County (Unincorporated Areas).
| Approximately 530 feet upstream of Herter Road (State Route 2022) | +800
Tributary 7 | At the confluence with South Fork Catawba River | +800 | Catawba County (Unincorporated Areas).
| Approximately 0.9 mile upstream of the confluence with South Fork Catawba River | +811
Tributary 8 | At the confluence with South Fork Catawba River | +802 | Catawba County (Unincorporated Areas).
| Approximately 0.7 mile upstream of Wilfong Road | +829
Tributary 9 | At the confluence with South Fork Catawba River | +806 | Catawba County (Unincorporated Areas).
| Approximately 1.1 miles upstream of US-321 | +822
Tributary 9A | At the confluence with South Fork Catawba River Tributary 9 | +806 | Catawba County (Unincorporated Areas).
| Approximately 1,500 feet upstream of the confluence with South Fork Catawba River Tributary 9 | +806
Terrapin Creek | Approximately 500 feet upstream of Mollys Backbone Road | +762 | Catawba County (Unincorporated Areas).
| Approximately 1.2 miles upstream of the confluence of Terrapin Creek Tributary 1 | +792
Tributary 1 | At the confluence with Terrapin Creek | +766 | Catawba County (Unincorporated Areas).
| Approximately 1.0 mile upstream of the confluence with Terrapin Creek | +790
Town Branch | At the confluence with the Catawba River | +773 | Catawba County (Unincorporated Areas), Town of Catawba.
| Approximately 0.5 mile upstream of 2nd Street Southwest | +894
Town Creek | Approximately 1,400 feet upstream of St. James Church Road | +871 | Catawba County (Unincorporated Areas), City of Newton.
| Approximately 0.8 mile upstream of State Route 10 | +943
Tributary to Lyle Creek Tributary | At the confluence with Lyle Creek Tributary | +875 | Catawba County (Unincorporated Areas).
| Approximately 0.7 mile upstream of the confluence with Lyle Creek Tributary | +921
* National Geodetic Vertical Datum.
# Depth in feet above ground.
+ North American Vertical Datum.
ADDRESSES
City of Claremont
Maps available for inspection at the City of Claremont Planning Department, 3288 East Main Street, Claremont, North Carolina.
City of Conover
Maps available for inspection at the Conover City Hall, 101 First Street East, Conover, North Carolina.
City of Hickory
Maps available for inspection at the Hickory City Hall, 76 North Center Street, Hickory, North Carolina.
City of Newton
Maps available for inspection at the City of Newton Planning Department, 401 North Main Avenue, Newton, North Carolina.
Town of Brookford
Maps available for inspection at the Brookford Town Hall, 1700 South Center Street, Brookford, North Carolina.
Town of Catawba
Maps available for inspection at the Catawba Town Hall, 102 1st Street Northwest, Catawba, North Carolina.
Town of Long View
Maps available for inspection at the Long View Town Hall, 2404 1st Avenue Southwest, Hickory, North Carolina.
Town of Maiden
Maps are available for inspection at the Maiden Town Hall, 113 West Main Street, Maiden, North Carolina.
Catawba County (Unincorporated Areas)
Maps available for inspection at the Catawba County Planning and Zoning Department, 100 A Southwest Boulevard, Newton, North Carolina.

(Catalog of Federal Domestic Assistance No. 83.100, “Flood Insurance.”)

Dated: March 20, 2007.
David I. Maurstad,
Director, Mitigation Division, Federal Emergency Management Agency, Department of Homeland Security.

[FR Doc. E7-6557 Filed 4-6-07; 8:45 am]

BILLING CODE 9110-12-P